DEPARTMENT OF ENERGY

Federal Energy Regulatory Commission

Combined Notice of Filings #2

Docket Numbers: EC13-128-000.

Applicants: Silver Merger Sub, Inc., Nevada Power Company, Sierra Pacific Power Company, NV Energy, Inc.

Description: Supplemental Informational Filing of Silver Merger Sub, Inc., et al.

Filed Date: 8/27/13.

Accession Number: 20130827-5144.

Comments Due: 5 p.m. ET 9/10/13.

Take notice that the Commission received the following electric rate filings:

Docket Numbers: ER10-2609-005; ER10-2604-003; ER10-2603-003; ER10-2602-006; ER10-2606-005.

Applicants: Escanaba Paper Company, Luke Paper Company, Rumford Paper Company, NewPage Energy Services, LLC, Consolidated Water Power Company.

Description: Supplement to July 8, 2013 Notice of non-material change status of NewPage Corporation, et al.

Filed Date: 8/28/13.

Accession Number: 20130828-5114.

Comments Due: 5 p.m. ET 9/18/13.

Docket Numbers: ER13-2267-000.

Applicants: Southwest Power Pool, Inc.

Description: 2045R2 Westar Energy, Inc. NITSA and NOA to be effective 8/1/2013.

Filed Date: 8/28/13.

Accession Number: 20130828-5090.

Comments Due: 5 p.m. ET 9/18/13.

Docket Numbers: ER13-2268-000.

Applicants: Southwest Power Pool, Inc.

Description: 1978R2 Westar Energy, Inc. NITSA and NOA to be effective 8/1/2013.

Filed Date: 8/28/13.

Accession Number: 20130828-5091.

Comments Due: 5 p.m. ET 9/18/13.

Docket Numbers: ER13-2269-000.

Applicants: Southwest Power Pool, Inc.

Description: 1897R2 Westar Energy, Inc. NITSA and NOA to be effective 8/1/2013.

Filed Date: 8/28/13.

Accession Number: 20130828-5101.

Comments Due: 5 p.m. ET 9/18/13.

Docket Numbers: ER13-2270-000.

Applicants: Southwest Power Pool, Inc.

Description: 2066R2 Westar Energy, Inc. NITSA and NOA to be effective 8/1/2013.

Filed Date: 8/28/13.

Accession Number: 20130828-5113.

Comments Due: 5 p.m. ET 9/18/13.

.

Docket Numbers: ER13-2271-000.

Applicants: Southwest Power Pool, Inc.

Description: Southwest Power Pool, Inc. submits 2390R1 Westar Energy, Inc. NITSA and NOA to be effective 8/1/2013.

Filed Date: 8/28/13.

Accession Number: 20130828-5116.

Comments Due: 5 p.m. ET 9/18/13.

Docket Numbers: ER13-2272-000.

Applicants: Southwest Power Pool, Inc.

Description: Southwest Power Pool, Inc. submits 2166R2 Westar Energy, Inc. NITSA and NOA to be effective 8/1/2013.

Filed Date: 8/28/13.

Accession Number: 20130828-5117.

Comments Due: 5 p.m. ET 9/18/13.

Docket Numbers: ER13-2273-000.

Applicants: Sky River LLC.

Description: Sky River LLC submits Sky River LLC Revisions to Attachment C of its OATT to be effective 10/7/2011.

Filed Date: 8/28/13.

Accession Number: 20130828-5121.

Comments Due: 5 p.m. ET 9/18/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 28, 2013.
Nathaniel J. Davis, Sr.,
Deputy Secretary.

[FR Doc. 2013-21733 Filed 9-5-13; 8:45 am]

BILLING CODE 6717-01-P